DEPARTMENT OF TRANSPORTATION

Federal Aviation Administration

14 CFR Part 39

[Docket No. FAA-2023-1897; Project Identifier MCAI-2023-00921-T; Amendment 39-22692; AD 2024-05-02]

RIN 2120-AA64

Airworthiness Directives; Airbus SAS Airplanes

AGENCY: Federal Aviation Administration (FAA), DOT.

ACTION: Final rule.

SUMMARY: The FAA is adopting a new airworthiness directive (AD) for certain Airbus SAS Model A320-214, A320-216, A320-251N, A320-271N, and A321-253NX airplanes. This AD was prompted by a quality review of the forward cargo door frame-to-fuselage skin panel assembly identified several fastener holes that deviated from the manufacturing requirements. This AD requires a geometrical check of the diameter of certain fastener holes for deviations, and if any deviation is found, repetitive special detailed inspections of the affected area for discrepancies and, depending on findings, accomplishment of applicable corrective actions, as specified in a European Union Aviation Safety Agency (EASA) AD, which is incorporated by reference. The FAA is issuing this AD to address the unsafe condition on these products.

DATES: This AD is effective May 8, 2024.

The Director of the Federal Register approved the incorporation by reference of a certain publication listed in this AD as of May 8, 2024.

ADDRESSES:

AD Docket: You may examine the AD docket at regulations.gov under Docket No. FAA-2023-1897; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material identified in this AD, contact EASA, Konrad-Adenauer-Ufer 3, 50668 Cologne, Germany; telephone +49 221 8999 000; email ADs@easa.europa.eu; website easa.europa.eu. You may find this material on the EASA website ad.easa.europa.eu.

• You may view this material at the FAA, Airworthiness Products Section, Operational Safety Branch, 2200 South 216th Street, Des Moines, WA. For information on the availability of this material at the FAA, call 206-231-3195. It is also available in the AD docket at regulations.gov under Docket No. FAA-2023-1897.

FOR FURTHER INFORMATION CONTACT: Timothy Dowling, Aviation Safety Engineer, FAA, 1600 Stewart Avenue, Suite 410, Westbury, NY 11590; telephone: 206-231-3667; email: timothy.p.dowling@faa.gov.

SUPPLEMENTARY INFORMATION:

Background

The FAA issued a notice of proposed rulemaking (NPRM) to amend 14 CFR part 39 by adding an AD that would apply to certain Airbus SAS Model A320-214, A320-216, A320-251N, A320-271N, and A321-253NX airplanes. The NPRM published in the Federal Register on October 5, 2023 (88 FR 69110). The NPRM was prompted by AD 2023-0153, dated July 26, 2023 (EASA AD 2023-0153) (also referred to as the MCAI), issued by EASA, which is the Technical Agent for the Member States of the European Union. The MCAI states a quality review of the forward cargo door frame-to-fuselage skin panel assembly identified several drillings as deviating from manufacturing requirements, creating oversized fastener holes, which could lead to cracking. This condition, if not addressed, could lead to reduced structural integrity of the fuselage.

In the NPRM, the FAA proposed to require repetitive special detailed inspections of the affected area for discrepancies and, depending on findings, accomplishment of applicable corrective actions, as specified in EASA AD 2023-0153. The FAA is issuing this AD to address the unsafe condition on these products.

You may examine the MCAI in the AD docket at regulations.gov under Docket No. FAA-2023-1897.

Discussion of Final Airworthiness Directive

Comments

The FAA received comments from two commenters. Air Line Pilots Association, International (ALPA) and an individual who both supported the NPRM without change.

Additional Changes Made to This AD

Since the NPRM was published, EASA AD 2023-0153 was superseded by EASA AD 2023-0179, dated October 11, 2023 (EASA AD 2023-0179). Since EASA AD 2023-0153 was issued, it has been determined that, depending on inspection findings, no repetitive inspection may be required. EASA AD 2023-0179 also clarified that the initial inspection is a geometrical check of the diameter of certain fastener holes for deviations. The FAA has updated this final rule accordingly by replacing EASA AD 2023-0153 with EASA AD 2023-0179 in all affected paragraphs and added a “Credit for Previous Actions” paragraph to retain the requirements of EASA AD 2023-0153, however the concession identified in EASA AD 2023-0153 was removed in EASA AD 2023-0179.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2023-0179 specifies procedures for a geometrical check of the diameter of certain fastener holes for deviations, and if any deviation is found, repetitive special detailed inspections of the affected area for discrepancies and, depending on findings, accomplishment of applicable corrective action. The special detailed inspection consists of a rototest inspection for cracking of the forward cargo door frame to fuselage skin panel, and if no cracking is found, checking the fastener hole diameters. Corrective actions include installing oversized fasteners if the fastener hole diameter is less than or equal to the specified nominal diameter, contacting the manufacturer for repair instructions if the fastener hole diameter is greater than the specified nominal diameter, and repairing any cracking by contacting the manufacturer for repair instructions. This material is reasonably available because the interested parties have access to it through their normal course of business or by the means identified in the section.

Costs of Compliance

The FAA estimates that this AD affects 8 airplanes of U.S. registry. The FAA estimates the following costs to comply with this AD:

Estimated Costs for Required Actions
Labor cost | Parts cost | Cost per product | Cost on U.S. operators
42.5 work-hours × $85 per hour = $3,613 | $100 | $3,713 | $29,704

The FAA has received no definitive data on which to base the cost estimates for the on-condition repairs specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-05-02 Airbus SAS: Amendment 39-22692; Docket No. FAA-2023-1897; Project Identifier MCAI-2023-00921-T.

(a) Effective Date

This airworthiness directive (AD) is effective May 8, 2024.

(b) Affected ADs

None.

(c) Applicability

This AD applies to Airbus SAS Model A320-214, A320-216, A320-251N, A320-271N, and A321-253NX airplanes, certificated in any category, as identified in European Union Aviation Safety Agency (EASA) AD 2023-0179, dated October 11, 2023 (EASA AD 2023-0179).

(d) Subject

Air Transport Association (ATA) of America Code: 53, Fuselage.

(e) Unsafe Condition

This AD was prompted by a quality review of the forward cargo door frame-to-fuselage skin panel assembly identified several drillings as deviating from manufacturing requirements, creating oversized fastener holes. The FAA is issuing this AD to address oversized fastener holes and cracking. The unsafe condition, if not detected and corrected, could result in reduced structural integrity of the fuselage.

(f) Compliance

Comply with this AD within the compliance times specified, unless already done.

(g) Requirements

Except as specified in paragraphs (h) and (i) of this AD: Comply with all required actions and compliance times specified in, and in accordance with, EASA AD 2023-0179.

(h) Exceptions to EASA AD 2023-0179

(1) Where EASA AD 2023-0179 refers to its effective date, this AD requires using the effective date of this AD.

(2) Where paragraph (4) of EASA AD 2023-0179 specifies “If, during any SDI as required by paragraph (3) of this AD, any crack is detected, before next flight, contact Airbus for approved repair instructions and, within the compliance time identified therein, accomplish those instructions accordingly,” this AD requires replacing those words with “If, during any SDI as required by paragraph (3) of this AD, any cracking is found, before next flight, repair the cracking using a method approved by the Manager, International Validation Branch, FAA; or EASA; or Airbus SAS's EASA Design Organization Approval (DOA). If approved by the DOA, the approval must include the DOA-authorized signature.”

(3) Where paragraph (8) of EASA AD 2023-0179 specifies the repair be done in accordance with “approved Airbus repair instructions,” for this AD the repair must have been done using a method approved by the Manager, International Validation Branch, FAA; or EASA; or Airbus SAS's EASA DOA. If approved by the DOA, the approval must include the DOA-authorized signature.

(4) Where paragraph (6) of EASA AD 2023-0179 specifies to “oversize that fastener hole and install a new oversize fastener and new rivet,” this AD requires replacing those words with “before next flight, oversize that fastener hole and install a new oversize fastener and new rivet.”

(5) This AD does not adopt the “Remarks” section of EASA AD 2023-0179.

(i) Credit for Previous Actions

This paragraph provides credit for the actions specified in paragraph (g) of this AD, if those actions were performed before the effective date of this AD using EASA AD 2023-0153, dated July 26, 2023.

(j) No Reporting Requirement

Although the service information referenced in EASA AD 2023-0179 specifies to submit certain information to the manufacturer, this AD does not include that requirement.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address in paragraph (l) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA DOA. If approved by the DOA, the approval must include the DOA-authorized signature.

(3) Required for Compliance (RC): Except as required by paragraphs (j) and (k)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

For more information about this AD, contact Timothy Dowling, Aviation Safety Engineer, FAA, 1600 Stewart Avenue, Suite 410, Westbury, NY 11590; telephone: 206-231-3667; email: timothy.p.dowling@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0179, dated October 11, 2023.

(ii) [Reserved]

(3) For EASA AD 2023-0179, contact EASA, Konrad-Adenauer-Ufer 3, 50668 Cologne, Germany; telephone +49 221 8999 000; email ADs@easa.europa.eu; website easa.europa.eu. You may find this EASA AD on the EASA website ad.easa.europa.eu.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on February 29, 2024.
Victor Wicklund,
Deputy Director, Compliance & Airworthiness Division, Aircraft Certification Service.

[FR Doc. 2024-06996 Filed 4-2-24; 8:45 am]

BILLING CODE 4910-13-P